ENVIRONMENTAL PROTECTION AGENCY

40 CFR Parts 52 and 81

[WI96-01-7327b; FRL-6901-4]

Approval and Promulgation of State Implementation Plans; Wisconsin

AGENCY: Environmental Protection Agency.

ACTION: Proposed rule.

SUMMARY: We are approving a request from the Wisconsin Department of Natural Resources (WDNR) submitted to the Environmental Protection Agency (EPA) on November 5, 1999 to redesignate a portion of the City of Rhinelander (Oneida County) Wisconsin from a primary sulfur dioxide (SO2) nonattainment area to attainment. EPA designated a portion of the City of Rhinelander as a primary SO2 nonattainment area on October 12, 1984. In the final rules section of this Federal Register, we are approving the SIP revision as a direct final rule without prior proposal, because we view this as a noncontroversial revision amendment and anticipate no adverse comments. A detailed rationale for the approval is set forth in the direct final rule. If no adverse comments are received in response to this proposed rule, no further activity is contemplated in relation to this proposed rule. If we receive adverse comments, the direct final rule will be withdrawn and all public comments received will be addressed in a subsequent final rules based on this proposed rule. We will not institute a second comment period on this action. Any parties interested in commenting on this action should do so at this time.

DATES: Comments on this proposed action must be received by December 15, 2000.

ADDRESSES: Written comments should be sent to: Carlton T. Nash, Chief, Regulations Development Section, Air Programs Branch (AR-18J), EPA Region 5, 77 West Jackson Boulevard, Chicago, Illinois 60604-3590.

FOR FURTHER INFORMATION CONTACT: Christos Panos, Regulation Development Section (AR-18J), Air Programs Branch, EPA Region 5, 77 West Jackson Boulevard, Chicago, Illinois 60604, (312) 353-8328.

SUPPLEMENTARY INFORMATION: For additional information, see the Direct Final notice which is located in the Rules section of this Federal Register. Copies of the request and the EPA's analysis are available for inspection at the above address.

Authority: 42 U.S.C. 7401 et seq.

Dated: October 27, 2000.
Gary Gulezian,
Acting Regional Administrator, Region 5.

[FR Doc. 00-29222 Filed 11-14-00; 8:45 am]

BILLING CODE 6560-50-P